DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Survey of Army Applicants Who Were Qualified Not Enlisted (QNE) or Those Who Entered the Delayed Entry Program (DEP) But Chose Not to Enlist: OMB Number 0702-[To Be Determined].

Type of Request: New Collection.

Number of Respondents: 8,000.

Responses Per Respondent: 1.

Annual Responses: 2,240.

Average Burden Per Response: 21 minutes.

Annual Burden Hours: 784.

Needs and Uses: This survey effort will collect expectation metrics concerning the value of Army enlistment incentives, training, and job/occupational choices. A very large number of individuals make a decision to enlist in the Army and, although qualified, do not complete the enlistment process. Another group of individuals actually enlist, and become members of the Delayed Entry Program, then later change their mind prior to actual ship date and become a loss. Understanding the reasons for these losses may place the Army Recruiting Command in a better position to provide the necessary number of recruits to maintain end strength.

Affected Public: Individuals and Households.

Frequency: Annually.

Respondent's Obligation: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing WHS/DIOR, 1215 Jefferson Davis Highway, Suite 1204, Arlington, VA 22202-4302.

Dated: October 25, 2000.
Patricia L. Toppings,
Alternate, OSD Federal Register Liaison Officer, Department of Defense.

[FR Doc. 00-27968 Filed 10-31-00; 8:45 am]

BILLING CODE 5001-10-M